FEDERAL COMMUNICATIONS COMMISSION

Notice of Public Information Collection(s) Being Reviewed by the Federal Communications Commission for Extension Under Delegated Authority, Comments Requested

January 31, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 9, 2001. If you anticipate that you will be submitting comments, but find it difficult to do so within the period of time allowed by this notice, you should advise the contact listed below as soon as possible.

ADDRESSES: Direct all comments to Les Smith, Federal Communications Commissions, Room 1 A-804, 445 Twelfth Street, S.W., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0968.

Title: Slamming Complaint form.

Form No.: FCC Form 478.

Type of Review: Extension.

Respondents: Business or Other for Profit.

Number of Respondents: 3600.

Estimated Time Per Response: 15 minutes (avg.)

Total Annual Burden: 900 hours.

Estimated Annual Reporting and Recordkeeping Cost Burden: $0.

Frequency of Response: On occasion.

Needs and Uses: The Commission adopted rules to protect consumers from slamming and to take the profit out of an illegal practice for unscrupulous companies. These rules provide a means for consumers who believe they have been slammed to file a complaint with the Commission. FCC Form 478 will significantly improve the Commission's ability to process complaints without delays. In particular, the complaint form will ensure that consumers have to file a complaint only once rather than seeking various avenues of redress. By requesting the precise information needed to process and resolve complaints, FCC Form 478 will provide the Commission with a more efficient means of handling slamming complaints and moving against the perpetrators.

Federal Communications Commission.
Magalie Roman Salas,
Secretary.

[FR Doc. 01-3177 Filed 2-6-01; 8:45 am]

BILLING CODE 6712-01-U